DEPARTMENT OF HEALTH AND HUMAN SERVICES

Food and Drug Administration

[Docket No. FDA-2009-N-0667]

[FDA 225-09-0008]

Memorandum of Understanding Between the Food and Drug Administration, United States Department of Health and Human Services and the National Oceanic and Atmospheric Administration, United States Department of Commerce

AGENCY: Food and Drug Administration, HHS.

ACTION: Notice.

SUMMARY: The Food and Drug Administration (FDA) is providing notice of a memorandum of understanding (MOU) between FDA, U.S. Department of Health and Human Services and the National Oceanic and Atmospheric Administration, U.S. Department of Commerce. The purpose of the MOU is for cooperation and information sharing in the inspection of fish and fishery products and establishments.

DATES: The agreement became effective October 9, 2009.

FOR FURTHER INFORMATION CONTACT: William Jones, Center for Food Safety and Applied Nutrition Food and Drug Administration, 5100 Paint Branch Pkwy., College Park, MD 20740, 301-436-2300.

SUPPLEMENTARY INFORMATION: In accordance with 21 CFR 20.108(c), which states that all written agreements and MOUs between FDA and others shall be published in the Federal Register, the agency is publishing notice of this MOU.

Dated: November 2, 2009.
David Horowitz,
Assistant Commissioner for Policy.

BILLING CODE 4160-01-S

[FR Doc. E9-27118 Filed 11-9-09; 8:45 am]

BILLING CODE 4160-01-C